NEIGHBORHOOD REINVESTMENT CORPORATION

Sunshine Act Meetings

TIME AND DATE: 4:00 p.m., Wednesday, February 24, 2021.

PLACE: Via Conference Call.

STATUS: Parts of this meeting will be open to the public. The rest of the meeting will be closed to the public.

MATTERS TO BE CONSIDERED: Special Board of Directors meeting.

The General Counsel of the Corporation has certified that in his opinion, one or more of the exemptions set forth in 5 U.S.C. 552(b)(2) and (4) permit closure of the following portion(s) of this meeting:

• Executive Session

Agenda

I. CALL TO ORDER

II. Discussion Item Welcome/Introduction

III. Discussion Item Market Landscape Presentation

IV. Discussion Item Strategic Planning Overview

V. Discussion Item Strategic Questions

VI. Discussion Item Timeline and Next Steps

VII. Adjournment

PORTIONS OPEN TO THE PUBLIC: Everything except the Executive Session.

PORTIONS CLOSED TO THE PUBLIC: Executive Session.

CONTACT PERSON FOR MORE INFORMATION: Lakeyia Thompson, Special Assistant, (202) 524-9940; Lthompson@nw.org.

Lakeyia Thompson,
Special Assistant.

[FR Doc. 2021-03390 Filed 2-16-21; 11:15 am]

BILLING CODE 7570-02-P